DEPARTMENT OF COMMERCE

National Oceanic and Atmospheric Administration

Public Comment Period for the Draft Environment Impact Statement and Draft Management Plan for the Proposed San Francisco Bay National Estuarine Research Reserve in California

AGENCY: The Estuarine Reserves Division, Office of Ocean and Coastal Resource Management, National Ocean Service, National Oceanic and Atmospheric Administration, U.S. Department of Commerce.

ACTION: Public hearing notice; extension of public comment period.

SUMMARY: Notice is hereby given that the Estuarine Reserves Division, of the Office of Ocean and Coastal Resource Management (OCRM), National Ocean Service (NOS), National Oceanic and Atmospheric Administration (NOAA), U.S. Department of Commerce, will extend the public comment period for the purpose of receiving comments on the Draft Environmental Impact Statement and Draft Management Plan (DEIS/DMP) prepared on the proposed designation of the San Francisco Bay National Estuarine Research Reserve in California. The DEIS/DMP addresses research, monitoring, education and resource protection needs for the proposed reserve.

DATES: The comment period for the DEIS/DMP which published on June 29, 2001 (66 FR 34618) will be extended to August 31, 2001. All written comments received by this deadline will be considered in the preparation of the FEIS.

FOR FURTHER INFORMATION CONTACT: Ms. Laurie McGilvray (301) 713-3155 extension 158, Estuarine Reserves Division, Office of Ocean and Coastal Resource Management, National Ocean Service, NOAA, 1305 East-West Highway, N/ORM5, Silver Spring, MD 20910. Copies of the Draft Environmental Impact Statement/Draft Management Plan are available upon request to the Estuarine Reserves Division.

(Federal Domestic Assistance Catalog Number 11.420 (Coastal Zone Management) Research Reserves)
Gary C. Matlock,
Acting Director for the National Centers for Coastal Ocean Science.

[FR Doc. 01-20690 Filed 8-16-01; 8:45 am]

BILLING CODE 3510-08-M